DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: May 19, 2016.
Roy E. Wright,
Deputy Associate Administrator for Insurance and Mitigation, Department of Homeland Security, Federal Emergency Management Agency.

State and county | Location and case No. | Chief executive officer of community | Community map repository | Effective date of modification | Community No.
Arkansas:
Benton, (FEMA Docket No.: B-1600) | City of Rogers (15-06-1201P) | The Honorable Greg Hines, Mayor, City of Rogers, 301 West Chestnut Street, Rogers, AR 72756 | City Hall, 301 West Chestnut Street, Rogers, AR 72756. | Apr. 5, 2016 | 050013
Pulaski, (FEMA Docket No.: B-1600) | City of Sherwood (14-06-4719P) | The Honorable Virginia Hillman Young, Mayor, City of Sherwood, P.O. Box 6256, Sherwood, AR 72124 | City Hall, 2199 East Kiehl Avenue, Sherwood, AR 72120 | Apr. 8, 2016 | 050235
Colorado:
Boulder, (FEMA Docket No.: B-1605) | City of Boulder (16-08-0051P) | The Honorable Suzanne Jones, Mayor, City of Boulder, P.O. Box 791, Boulder, CO 80306 | Planning and Development Services Department, 1739 Broadway Street, Boulder, CO 80302 | Apr. 26, 2016 | 080024
Jefferson, (FEMA Docket No.: B-1600) | City of Golden (15-08-1205P) | The Honorable Marjorie Sloan, Mayor, City of Golden, 911 10th Street, Golden, CO 80401 | Public Works Department, 1445 10th Street, Golden, CO 80401 | Apr. 22, 2016 | 080090
Weld, (FEMA Docket No.: B-1605) | Town of Milliken (15-08-0943P) | The Honorable Milt Tokunaga, Mayor, Town of Milliken, 1101 Broad Street, Milliken, CO 80543 | Town Hall, 1101 Broad Street, Milliken, CO 80543 | May 4, 2016 | 080187
Weld, (FEMA Docket No.: B-1605) | Unincorporated areas of Weld County (15-08-0943P) | The Honorable Barbara Kirkmeyer, Chair, Weld County Board of Commissioners, P.O. Box 758, Greeley, CO 80632 | Weld County Planning and Zoning Department, 1555 North 17th Avenue, Greeley, CO 80631 | May 4, 2016 | 080266
Florida:
Bay, (FEMA Docket No.: B-1600) | City of Lynn Haven (15-04-6857P) | The Honorable Margo Anderson, Mayor, City of Lynn Haven, 825 Ohio Avenue, Lynn Haven, FL 32444 | Building Department, 907 Pennsylvania Avenue, Lynn Haven, FL 32444 | Apr. 4, 2016 | 120009
Bay, (FEMA Docket No.: B-1600) | Unincorporated areas of Bay County (15-04-6857P) | The Honorable Guy M. Tunnell, Chairman, Bay County Board of Commissioners, 840 West 11th Street, Panama City, FL 32401 | Bay County Planning and Zoning Department, 840 West 11th Street, Panama City, FL 32401 | Apr. 4, 2016 | 120004
Brevard, (FEMA Docket No.: B-1605) | City of Indian Harbour Beach (15-04-1302P) | The Honorable David Panicola, Mayor, City of Indian Harbour Beach, 2055 South Patrick Drive, Indian Harbour Beach, FL 32937 | City Hall, 2055 South Patrick Drive, Indian Harbour Beach, FL 32937 | Apr. 28, 2016 | 125116
Broward, (FEMA Docket No.: B-1600) | City of Pompano Beach (15-04-4261P) | The Honorable Lamar Fisher, Mayor, City of Pompano Beach, 100 West Atlantic Boulevard, Pompano Beach, FL 33060. | Building Division, 100 West Atlantic Boulevard, Pompano Beach, FL 33060. | Apr. 6, 2016 | 120055
Broward, (FEMA Docket No.: B-1605) | City of Pompano Beach (15-04-7209P) | The Honorable Lamar Fisher, Mayor, City of Pompano Beach, 100 West Atlantic Boulevard, Pompano Beach, FL 33060 | Building Division, 100 West Atlantic Boulevard, Pompano Beach, FL 33060 | May 5, 2016 | 120055
Broward, (FEMA Docket No.: B-1600) | Unincorporated areas of Broward County (15-04-4261P) | The Honorable Tim Ryan, Mayor, Broward County Commission, 115 South Andrews Avenue, Room 413, Fort Lauderdale, FL 33301 | Broward County Building Permitting Division, 1 North University Drive, Suite 201A, Plantation, FL 33324 | Apr. 6, 2016 | 125093
Charlotte, (FEMA Docket No.: B-1600) | Unincorporated areas of Charlotte County (15-04-9981P) | The Honorable Bill Truex, Chairman, Charlotte County Board of Commissioners, 18500 Murdock Circle, Suite 536, Port Charlotte, FL 33948 | Charlotte County Community Development Department, 18500 Murdock Circle, Port Charlotte, FL 33948 | Apr. 4, 2016 | 120061
Collier, (FEMA Docket No.: B-1600) | City of Marco Island (16-04-0095X) | The Honorable Bob Brown, Chairman, City of Marco Island Council, 50 Bald Eagle Drive, Marco Island, FL 34145 | City Hall, 50 Bald Eagle Drive, Marco Island, FL 34145 | Apr. 4, 2016 | 120426
Duval, (FEMA Docket No.: B-1600) | City of Jacksonville (15-04-A463P) | The Honorable Lenny Curry, Mayor, City of Jacksonville, 117 West Duval Street, Suite 400, Jacksonville, FL 32202 | Development Services Division, 214 North Hogan Street, Room 2100, Jacksonville, FL 32202 | Apr. 17, 2016 | 120077`
Hillsborough, (FEMA Docket No.: B-1600) | City of Plant City (15-04-0825P) | The Honorable Rick A. Lott, Mayor, City of Plant City, 302 West Reynolds Street, Plant City, FL 33563 | Engineering Division, 302 West Reynolds Street, Plant City, FL 33563 | Apr. 7, 2016 | 120113
Lee, (FEMA Docket No.: B-1600) | Town of Fort Myers Beach (15-04-6044P) | The Honorable Anita Cereceda, Mayor, Town of Fort Myers Beach, 2525 Estero Boulevard, Fort Myers Beach, FL 33931 | Public Works Department, 2525 Estero Boulevard, Fort Myers Beach, FL 33931 | Apr. 4, 2016 | 120673
Lee, (FEMA Docket No.: B-1605) | Unincorporated areas of Lee County (15-04-7181P) | The Honorable Frank Mann, Chairman, Lee County Board of Commissioners, District 5, P.O. Box 398, Fort Myers, FL 33902 | Lee County Community Development Department, 1500 Monroe Street, Fort Myers, FL 33901 | May 4, 2016 | 125124
Manatee, (FEMA Docket No.: B-1600) | Unincorporated areas of Manatee County (15-04-3585P) | The Honorable Betsy Benac, Chair, Manatee County Board of Commissioners, 1112 Manatee Avenue West, 9th Floor, Bradenton, FL 34205 | Manatee County Public Works Department, 1022 26th Avenue East, Bradenton, FL 34208 | Apr. 5, 2016 | 120153
Miami-Dade, (FEMA Docket No.: B-1605) | City of Miami (15-04-A406P) | The Honorable Tomás P. Regalado, Mayor, City of Miami, 3500 Pan American Drive, Miami, FL 33133 | Building Department, 444 Southwest 2nd Avenue, Miami, FL 33130 | Apr. 4, 2016 | 120650
Miami-Dade, (FEMA Docket No.: B-1605) | City of Sunny Isles Beach (15-04-8034P) | The Honorable George “Bud” Scholl, Mayor, City of Sunny Isles Beach, 18070 Collins Avenue, Sunny Isles Beach, FL 33160 | Building Department, 18070 Collins Avenue, Sunny Isles Beach, FL 33160 | Apr. 26, 2016 | 120688
Nassau, (FEMA Docket No.: B-1600) | Unincorporated areas of Nassau County (15-04-7268P) | The Honorable Pat Edwards, Chairman, Nassau County Board of Commissioners, 96135 Nassau Place, Suite 1, Yulee, FL 32097 | Nassau County Building Department, 96161 Nassau Place, Yulee, FL 32097 | Apr. 7, 2016 | 120170
Seminole, (FEMA Docket No.: B-1605) | City of Longwood (15-04-9353P) | The Honorable Joe Durso, Mayor, City of Longwood, 175 West Warren Avenue, Longwood, FL 32750 | Community Development Division, 174 West Church Avenue, Longwood, FL 32750 | May 6, 2016 | 120292
Georgia:
Columbia, (FEMA Docket No.: B-1600) | Unincorporated areas of Columbia County (15-04-3832P) | The Honorable Ron C. Cross, Chairman, Columbia County Board of Commissioners, P.O. Box 498, Evans, GA 30809 | Columbia County Engineering Services Department, 630 Ronald Reagan Drive, Building A, East Wing, Evans, GA 30809 | Apr. 7, 2016 | 130059
Columbia, (FEMA Docket No.: B-1605) | Unincorporated areas of Columbia County (15-04-A572P) | The Honorable Ron C. Cross, Chairman, Columbia County Board of Commissioners, P.O. Box 498, Evans, GA 30809 | Columbia County Engineering Services Department, 630 Ronald Reagan Drive, Building A, East Wing, Evans, GA 30809 | May 6, 2016 | 130059
Lee, (FEMA Docket No.: B-1605) | City of Leesburg (15-04-3743P) | The Honorable Jim Quinn, Mayor, City of Leesburg, P.O. Box 890, Leesburg, GA 31763 | City Hall, 107 Walnut Avenue South, Leesburg, GA 31763 | Apr. 21, 2016 | 130348
Lee, (FEMA Docket No.: B-1605) | Unincorporated areas of Lee County (15-04-3743P) | The Honorable Rick Muggridge, Chairman, Lee County Board of Commissioners, 110 Starksville Avenue North, Leesburg, GA 31763 | Lee County Administration Building, 110 Starksville Avenue North, Leesburg, GA 31763 | Apr. 21, 2016 | 130122
Mississippi: Rankin, (FEMA Docket No.: B-1600) | City of Richland (15-04-6709P) | The Honorable Mark Scarborough, Mayor, City of Richland, P.O. Box 180609, Richland, MS 39218 | City Hall, 380 Scarbrough Street, Richland, MS 39218 | Apr. 21, 2016 | 280299
New York: Rockland, (FEMA Docket No.: B-1555) | Town of Clarkstown (15-02-0462P) | The Honorable Alexander J. Gromack, Supervisor, Town of Clarkstown, 10 Maple Avenue, New City, NY 10956 | Town Hall, 10 Maple Avenue, New City, NY 10956 | Apr. 19, 2016 | 360679
North Carolina: Watauga, (FEMA Docket No.: B-1600) | Town of Blowing Rock (15-04-2144P) | The Honorable J.B. Lawrence, Mayor, Town of Blowing Rock, P.O. Box 47, Blowing Rock, NC 28605 | Planning and Inspections Department, 1038 Main Street, Blowing Rock, NC 28605 | Apr. 21, 2016 | 370252
Ohio:
Franklin, (FEMA Docket No.: B-1605) | City of Columbus (15-05-3155P) | The Honorable Michael B. Coleman, Mayor, City of Columbus, 90 West Broad Street,, 2nd Floor, Columbus, OH 43215 | City Hall, 1250 Fairwood Avenue, Columbus, OH 43206 | Apr. 20, 2016 | 390170
Franklin, (FEMA Docket No.: B-1605) | City of Grandview Heights (15-05-3155P) | The Honorable Ray DeGraw, Mayor, City of Grandview Heights, 1016 Grandview Avenue, Grandview Heights, OH 43212 | City Hall, 1016 Grandview Avenue, Grandview Heights, OH 43212 | Apr. 20, 2016 | 390172
Oklahoma:
Cleveland, (FEMA Docket No.: B-1600) | City of Moore (15-06-1047P) | The Honorable Stephen O. Eddy, Manager, City of Moore, 301 North Broadway Street, Moore, OK 73160 | City Hall, 301 North Broadway Street, Moore, OK 73160 | Apr. 27, 2016 | 400044
Cleveland, (FEMA Docket No.: B-1600) | City of Oklahoma City (15-06-1047P) | The Honorable Mick Cornett, Mayor, City of Oklahoma City, 200 North Walker Avenue, 3rd Floor, Oklahoma City, OK 73102 | Department of Public Works, 420 West Main Street, Suite 700, Oklahoma City, OK 73102 | Apr. 27, 2016 | 405378
Oklahoma, (FEMA Docket No.: B-1600) | City of Edmond (15-06-3272P) | The Honorable Charles Lamb, Mayor, City of Edmond, P.O. Box 2970, Edmond, OK 73083 | Planning and Public Works Department, 10 South Littler, Edmond, OK 73084 | Apr. 7, 2016 | 400252
Oklahoma, (FEMA Docket No.: B-1605) | City of Oklahoma City (15-06-0551P) | The Honorable Mick Cornett, Mayor, City of Oklahoma City, 200 North Walker , 3rd Floor, Oklahoma City, OK 73102 | Planning Department, 420 West Main, 9th Floor, Oklahoma City, OK 73102 | May 4, 2016 | 405378
Oklahoma, (FEMA Docket No.: B-1605) | City of Oklahoma City (15-06-3108P) | The Honorable Mick Cornett, Mayor, City of Oklahoma City, 200 North Walker, 3rd Floor, Oklahoma City, OK 73102 | Planning Department, 420 West Main, 9th Floor, Oklahoma City, OK 73102 | Apr. 26, 2016 | 405378
Oklahoma, (FEMA Docket No.: B-1605) | Unincorporated areas of Oklahoma County (15-06-3108P) | The Honorable Ray Vaughn, Oklahoma County, Commissioner, District 3, 320 Robert S. Kerr Avenue, Suite 621, Oklahoma City, OK 73102 | Oklahoma County Planning Department, 320 Robert S. Kerr Avenue, Suite 101, Oklahoma City, OK 73102 | Apr. 26, 2016 | 400466
Pennsylvania:
Chester, (FEMA Docket No.: B-1605) | Township of Caln (15-03-1479P) | The Honorable John Contento, President, Township of Caln Board of Commissioners, 253 Municipal Drive, Thorndale, PA 19372 | Township Municipality Building, 253 Municipal Drive, Thorndale, PA 19372 | Apr. 26, 2016 | 422247
Chester, (FEMA Docket No.: B-1605) | Borough of Downingtown (15-03-1479P) | The Honorable Joshua Maxwell, Mayor, Borough of Downingtown, 4 West Lancaster Avenue, Downingtown, PA 19335 | Borough Hall, 4 West Lancaster Avenue, Downingtown, PA 19335 | Apr. 26, 2016 | 420275
South Carolina:
Charleston, (FEMA Docket No.: B-1600) | Town of Mount Pleasant (16-04-0085P) | The Honorable Linda Page, Mayor, Town of Mount Pleasant, 100 Ann Edwards Lane, Mount Pleasant, SC 29464 | Planning and Development Department, 100 Ann Edwards Lane, Mount Pleasant, SC 29464 | Apr. 28, 2016 | 455417
Lexington, (FEMA Docket No.: B-1605) | Unincorporated areas of Lexington County (15-04-7104P) | The Honorable Johnny W. Jeffcoat, Chairman, Lexington County Board of Commissioners, 212 South Lake Drive, Suite 601, Lexington, SC 29072 | Lexington County Planning Department, 212 South Lake Drive, Suite 302, Lexington, SC 29072 | Apr. 29, 2016 | 450129
Tennessee: Knox, (FEMA Docket No.: B-1600) | City of Knoxville (15-04-6041P) | The Honorable Madeline Rogero, Mayor, City of Knoxville, P.O. Box 1631, Knoxville, TN 37901 | Stormwater Engineering Division, 400 Main Street, Suite 480, Knoxville, TN 37902 | Apr. 8, 2016 | 475434
Texas:
Bell, (FEMA Docket No.: B-1605) | City of Belton (15-06-2989P) | The Honorable Marion Grayson, Mayor, City of Belton, P.O. Box 120, Belton, TX 76513 | City Hall, 333 Water Street, Belton, TX 76513 | Apr. 29, 2016 | 480028
Dallas, (FEMA Docket No.: B-1605) | City of Carrollton (15-06-4000P) | The Honorable Matthew Marchant, Mayor, City of Carrollton, 1945 East Jackson Road, Carrollton, TX 75006 | Engineering Department, 1945 East Jackson Road, Carrollton, TX 75006 | Apr. 18, 2016 | 480167
Harris and, Waller, (FEMA Docket No.: B-1605) | City of Katy (15-06-1824P) | The Honorable Fabol R. Hughes, Mayor, City of Katy, P.O. Box 617, Katy, TX 77493 | City Hall, 910 Avenue C, Katy, TX 77493 | Apr. 22, 2016 | 480301
Johnson, (FEMA Docket No.: B-1600) | City of Burleson (15-06-3404P) | The Honorable Ken Shetter, Mayor, City of Burleson, 141 West Renfro Street, Burleson, TX 76028 | Development Services Department, 141 West Renfro Street, Burleson, TX 76028 | Apr. 18, 2016 | 485459
McClennan, (FEMA Docket No.: B-1600) | City of Hewitt (15-06-2410P) | The Honorable Ed Passaligo, Mayor, City of Hewitt, 105 Tampico Drive, Hewitt, TX 76643 | City Hall, 105 Tampico Drive, Hewitt, TX 76643 | Apr. 4, 2016 | 480458
McClennan, (FEMA Docket No.: B-1600) | City of Waco (15-06-2410P) | The Honorable Malcolm Duncan Jr., Mayor, City of Waco, 300 Austin Avenue, Waco, TX 76702 | Engineering Services Department, 401 Franklin Avenue, Waco, TX 76701 | Apr. 4, 2016 | 480461
Virginia:
Fauquier, (FEMA Docket No.: B-1605) | Unincorporated areas of Fauquier County (15-03-1168P) | The Honorable Chester W. Stribling, Chairman, Fauquier County Board of Supervisors, 10 Hotel Street, Suite 208, Warrenton, VA 20186 | Fauquier County Department of Community Development, 29 Ashby Street, Suite 310, Warrenton, VA 20186 | Apr. 28, 2016 | 510055
Montgomery, (FEMA Docket No.: B-1605) | Unincorporated areas of Montgomery County (14-03-0497P) | The Honorable Bill Brown, Chairman, Montgomery County Board of Supervisors, 755 Roanoke Street,, Suite 2E, Christiansburg, VA 24073 | Montgomery County Planning Department, 755 Roanoke Street, Suite 2A, Christiansburg, VA 24073 | May 5, 2016 | 510099

[FR Doc. 2016-13813 Filed 6-10-16; 8:45 am]

BILLING CODE 9110-12-P